DEPARTMENT OF HEALTH AND HUMAN SERVICES

Office of Inspector General; Program Exclusions: Correction

AGENCY: Office of Inspector General, HHS.

ACTION: Notice of program exclusions, correction.

Published document in the Federal Register of January 21, 2005, imposed exclusions. The document contained the incorrect monthly exclusions.

FOR FURTHER INFORMATION CONTACT: Jacqueline Freeman (410) 786-5197.

Correction

In the Federal Register of January 21, 2005, FR Doc. 05-1081, starting on page 3205, the list was for the August 2003 exclusions. The correction exclusions for December 2004 should read:

Subject name and address | Effective date
PROGRAM-RELATED CONVICTIONS
ALBERTO, SHELAH | 1/19/2005
SAN DIEGO, CA
ANDERSON, STACEY | 1/19/2005
FAIRFIELD, CA
AVILA, JUAN | 1/19/2005
BELL, CA
AYMAN, TOORAJ | 1/19/2005
VISTA, CA
BECK, HEATHER | 1/19/2005
CUMMING, GA
BIGORNIA, SUSANA | 1/19/2005
ROWLAND HEIGHTS, CA
BRANCH, ANDREW | 1/19/2005
SEATTLE, WA
CHAVIRA, ARMIDA | 1/19/2005
SAN DIMAS, CA
CORN, MARIA | 1/19/2005
TUCSON, AZ
CRAGER, CATHY | 1/19/2005
STATE LINE, MS
DIZON, LINDA | 1/19/2005
MALIBU, CA
DUNCAN, NOAH | 1/19/2005
CARY, NC
ECHEVERRIA, ALISON | 1/19/2005
GOODYEAR, AZ
FARINAS, MARCELO | 1/19/2005
TORRANCE, CA
GALLARDO, AMANDA | 1/19/2005
PETALUMA, CA
GOMEZ, GUADALUPE | 1/19/2005
ANAHEIM, CA
GONZALEZ, JOSE | 1/19/2005
MIAMI, FL
GREEN, ETHEL | 1/19/2005
JACKSON, MS
GREER, STANLEY | 1/19/2005
DETROIT, MI
HARWOOD, CAROL | 1/19/2005
KEMMERER, WY
HEALTH SYSTEM TRANSPORTATION, INC | 1/19/2005
OAK PARK, MI
HERRERA, FRANCISCA | 1/19/2005
YAKIMA, WA
MARKS, CRAIG | 1/19/2005
FT LAUDERDALE, FL
MKRYAN, VARDAN | 1/19/2005
N. HOLLYWOOD, CA
MOSCU, DORA | 1/19/2005
TALLAHASSEE, FL
NASTASI, ANTHONY | 1/19/2005
BROOKLYN, NY
ORTIZ, CARMEN | 1/19/2005
MIAMI, FL
PENAFLORIDA, ERNESTO | 1/19/2005
TAFT, CA
SANDERS, MELISSA | 1/19/2005
SANDERSVILLE, MS
SEATON, GUY | 1/19/2005
HAYWARD, CA
SIBRIAN, MARTIN | 1/19/2005
LOS ANGELES, CA
SIPLER, CHARLES | 1/19/2005
BIG SANDY, MT
SODERBERG, PAUL | 1/19/2005
ROUNDUP, MT
ST LUKE'S SUBACUTE HOSPITAL & NURSING CTR | 1/19/2005
SAN LEANDRO, CA
VALDEZ, ROMULO | 11/12/2004
AMHERST, NH
VEITIA, RAMON | 1/19/2005
MIAMI, FL
WALLEY, BRUCE | 1/19/2005
LAC DU FLAMBEAU, WI
WATTS, SUSAN | 1/19/2005
EMPIRE, AL
WETSMAN, HERMAN | 1/19/2005
NORTH LAS VEGAS, NV
FELONY CONVICTION FOR HEALTH CARE FRAUD
ALBRIGHT, CAROLYN | 1/19/2005
MARYSVILLE, OH
CYMERINT, JOHN | 1/19/2005
LAKE FOREST, CA
GATLIN, LISA | 1/19/2005
TALLAHASSEE, FL
HELDEMAN, MARVIN | 1/19/2005
BUTNER, NC
POOLAW, ETHELEEN | 1/19/2005
LAWTON, OK
THOMAS, CURTIS | 1/19/2005
OKLAHOMA CITY, OK
FELONY CONTROL SUBSTANCE CONVICTION
COOPER, PAMELA | 1/19/2005
DAWSON, TX
DIAZ, JOHNNY | 1/19/2005
SAN ANTONIO, TX
HUTCHINS, SHERRY | 1/19/2005
POLK CITY, IA
HYMAN, RONALD | 1/19/2005
FAIRTON, NJ
KAISER, ALAN | 1/19/2005
COVINGTON, GA
LAFOND, ANITA | 1/19/2005
CHEYENNE, WY
LUCE, RONDA | 1/19/2005
LUFKIN, TX
MCKOWN, MICHAEL | 1/19/2005
RINGLING, OK
MILLER, KIMBERLY | 1/19/2005
GRANGER, TX
PABLO, FAITH | 1/19/2005
SELLS, AZ
SCHNEIDER, MARC | 1/19/2005
LOUISVILLE, KY
SECORD, JANINE | 1/19/2005
SCOTTSDALE, AZ
SLATON, MARY | 1/19/2005
KAILUA, HI
SMITH, LISA | 1/19/2005
PORT CHARLOTTE, FL
PATIENT ABUSE/NEGLECT CONVICTIONS
BLAIR, STEPHANIE | 1/19/2005
OXNARD, CA
CARINO, IMELDA | 1/19/2005
CHULA VISTA, CA
DAWSON, SHARON | 1/19/2005
MILWAUKEE, WI
FEE, KELLY | 1/19/2005
BELLINGHAM, WA
HAWTHORNE, ALLAN | 1/19/2005
RUTH, MS
HOWELL, MICHELLE | 1/19/2005
EUPORA, MS
JIMENEZ, DANIEL | 1/19/2005
MIAMI, FL
JOHNSON, MARVIN | 1/19/2005
TAMPA, FL
KINCAIDE, LINDA | 1/19/2005
COFFEEVILLE, MS
LARGE, CEDRICK | 1/19/2005
HATTIESBURG, MS
LESSMILLER, JEAN | 1/19/2005
ALGOMA, WI
MARION, ROBERT | 1/19/2005
BALTIMORE, MD
MCELWEE, TYWANNA | 1/19/2005
NORWOOD, LA
PAIGE, SANDRA | 1/19/2005
HATTIESBURG, MS
PILCHER, KATHLEEN | 1/19/2005
FLORENCE, VT
PURVIS, ANTONIS | 1/19/2005
BRANDON, MS
RARICK, JOSEPH | 1/19/2005
LEXINGTON, OK
RESENDIZ, ROLAN | 1/19/2005
HOLLISTER, CA
ROBINSON, RICKY | 1/19/2005
LOUISVILLE, KY
SNELL, BOBBY | 1/19/2005
DEL CITY, OK
TOVAR, VALERIE | 1/19/2005
DENVER, CO
CONVICTION FOR HEALTH CARE FRAUD
FAIRLEY, DETRA | 1/19/2005
BATON ROUGE, LA
MARTINEZ, LUGARDHA | 1/19/2005
BRYAN, TX
MIRELES, MARY | 1/19/2005
OKOBOJI, IA
STEWART, LUCILLE | 1/19/2005
HILLSBORO, OR
CONVICTION-OBSTRUCTION OF AN INVESTIGATION
BANGALI, MICHAEL | 1/19/2005
OZONE PARK, NY
CONTROLLED SUBSTANCE CONVICTIONS
DUERSON, GINA | 1/19/2005
RICHMOND, KY
LICENSE REVOCATION/SUSPENSION/SURRENDERED
ALEXANDER, RAMONA | 1/19/2005
SUISUN, CA
ALEXANDER, ZANDRINA | 1/19/2005
ST PETERSBURG, FL
ANDERSON, DONNA | 1/19/2005
CHOWCHILLA, CA
AYER, MARY | 1/19/2005
MONTPEILER, VT
BAIRD, STACI | 1/19/2005
GASTON, NC
BAKER, NINA | 1/19/2005
WOODVILLE, TX
BANKS, TONYA | 1/19/2005
FALLON, NV
BARNES, LAURA | 1/19/2005
CHANDLER, AZ
BARRAGAN, IRMA | 1/19/2005
LOS ANGELES, CA
BATTEY, PETER | 1/19/2005
LAS VEGAS, NV
BAYLESS, SHERMAN | 1/19/2005
LAS VEGAS, NV
BEDFORD, MELISSA | 1/19/2005
PROVIDENCE, RI
BEVAN, WARREN | 1/19/2005
HILLSBORO, OR
BITTNER, MELISSA | 1/19/2005
WESTVILLE, NJ
BLALOCK, DEBORAH | 1/19/2005
NORWOOD, NC
BOADU, NANCY | 1/19/2005
PROVIDENCE, RI
BROOKE, KATHLEEN | 1/19/2005
LITTLETON, CO
BROOKS, JAMES | 1/19/2005
HENDERSON, NV
BURLEY, ANNA | 1/19/2005
CHINO VALLEY, AZ
CHOPIN, SERGIO | 1/19/2005
SANTA ROSA, CA
CHRISTIANSEN, YVONNE | 1/19/2005
FLORAL CITY, FL
CHRISTMAN, KELLY | 1/19/2005
EVERETT, WA
COLBY, DEBORAH | 1/19/2005
EAST PROVIDENCE, RI
COLE, LINDA | 1/19/2005
HURRICANE, UT
COOPER, BONNIE | 1/19/2005
MONTEREY, CA
COVEY, WILLIAM | 1/19/2005
PHOENIX, AZ
CRANE, TAMMY | 1/19/2005
BEAVERTON, OR
CRAPANZANO, LOUIS | 1/19/2005
PALM COAST, FL
DADISMAN, AMY | 1/19/2005
MORGANTOWN, WV
DALY, BARBARA | 1/19/2005
HAMDEN, CT
DAVIS, JAMES | 1/19/2005
TAMPA, FL
DAVIS, ROSEMARY | 1/19/2005
SACRAMENTO, CA
DEWBERRY, TINA | 8/19/2004
PITTSBURG, TX
DOBBS, RANDELL | 1/19/2005
FLAGSTAFF, AZ
EDMONDS, DEMETHRUS | 1/19/2005
VIRGINIA BEACH, VA
EDWARDS-BANKS, CAROL | 1/19/2005
BAYSIDE, CA
FERNANDO, JANET | 1/19/2005
CLEMMONS, NC
FIFE, CHERYL | 1/19/2005
IDAHO FALLS, ID
FIORENZO, LESLIE | 1/19/2005
PITTSBURGH, PA
FOSS, JOHN | 1/19/2005
DELRAY BEACH, FL
FRANKLIN, CYNTHIA | 1/19/2005
YUMA, AZ
FULLMAN, LISA | 1/19/2005
BIRMINGHAM, AL
GADDIS, GINA | 1/19/2005
BROOMFIELD, CO
GARCIA, DAVID | 1/19/2005
SANTA FE, NM
GATES, AMANDA | 1/19/2005
OWENS CROSS ROAD, AL
GAUNT, RUENEE | 1/19/2005
LAS VEGAS, NV
GILCHRIST, CHRISTA | 1/19/2005
PHOENIX, AZ
GILLESPIE, JAMES | 1/19/2005
FT PIERCE, FL
GILLILAND, TIMOTHY | 1/19/2005
MONTROSE, CO
GODSEY, ROBERT | 1/19/2005
LINDSAY, CA
GOLDSTEIN, ROBERT | 1/19/2005
SEMINOLE, FL
GRAHAM, DAVID | 1/19/2005
SOMERS, MT
GREENE, GARLAND | 1/19/2005
HAMPTON, VA
GREGG, KARLA | 1/19/2005
MAGNA, UT
GUERRERO, VICENTE | 1/19/2005
SANTA ROSA, CA
HAGERMAN, DAVID | 1/19/2005
CHARLOTTE, NC
HARDIN, TRACY | 1/19/2005
BAKERSFIELD, CA
HARRINGTON, MARY | 1/19/2005
FRESNO, CA
HAWKINS, DRANE | 1/19/2005
GREEN VALLEY, AZ
HAYNES, PAUL | 1/19/2005
YADKINVILLE, NC
HENDERSON, KATINA | 1/19/2005
ST PETERSBURG, FL
HUCKINS, BARBARA | 1/19/2005
ATHOL, ID
HUNT, AIMEE | 1/19/2005
BARTOW, FL
HUNTER, LINDA | 1/19/2005
BOISE, ID
ISAACKS, VICKIE | 1/19/2005
BEEVILLE, TX
JACOBSON, GLENNA | 1/19/2005
SPOKANE, WA
JAIKARAN, JACQUES | 1/19/2005
KINGWOOD, TX
JENKINS, ZENNA | 1/19/2005
BESSEMER, AL
JEPSEN, KELLY | 1/19/2005
SEATTLE, WA
JOHNSON, JOHN | 1/19/2005
HOLLADAY, UT
JONES, ARTHUR | 1/19/2005
CANON CITY, CO
JONES, SHERITA | 1/19/2005
WILLIAMSBURG, VA
JOSEPH, SHARON | 1/19/2005
COOLIDGE, AZ
JULIAN, SELENA | 1/19/2005
KANNAPOLIS, NC
KEPHART, JOHN | 1/19/2005
LAS VEGAS, NV
KJAR-DEBOWER, FONDA | 1/19/2005
AUDUBON, IA
KOONITSKY, CHRISTINE | 1/19/2005
PROSPECT, CT
LANCASTER, HAROLD | 1/19/2005
THOMASVILLE, GA
LAPP, ROBERT | 1/19/2005
MORRISON, CO
LEDFORD, KATHLEEN | 1/19/2005
BOWLING GREEN, KY
LEWIS, JOYCE | 1/19/2005
SPRING LAKE, NC
LOOKINGBACK, JASON | 1/19/2005
PHOENIX, AZ
LOUNSBURY, SHERRI | 1/19/2005
WOLCOTT, CT
MADDEN, JANE | 1/19/2005
LANSDOWNE, PA
MADDINENI, SUJATA | 1/19/2005
WALTHAM, MA
MANGUM, LUCINDA | 1/19/2005
SANDY, UT
MARRIOTT, JEANETTE | 1/19/2005
REDDING, CA
MAYNARD, BARRY | 1/19/2005
MAYWOOD, IL
MCBAIN, KATIE | 1/19/2005
WALLA WALLA, WA
MCCAIN, LEE ANN | 1/19/2005
PRATTVILLE, AL
MCCANN, DAVID | 1/19/2005
ORANGEVALE, CA
MCCULLEY, SANDRA | 1/19/2005
NASHVILLE, TN
MCLAIN, MARY | 1/19/2005
MOBILE, AL
MELHADO, JUSTIN | 1/19/2005
TUCSON, AZ
MESSIER, JOSEPH | 1/19/2005
MIAMI, FL
MILLER, TRACY | 1/19/2005
PHOENIX, AZ
MIRACLE, ANNA | 1/19/2005
WHITESBURG, KY
MONROE, LYNN | 1/19/2005
SPOKANE, WA
MOORE, JANE | 1/19/2005
MADISON, NJ
MOORE, LYNDA | 1/19/2005
LAKEVILLE, MN
MOOTOO, SARAH | 1/19/2005
BOCA RATON, FL
MORITZ, ALICIA | 1/19/2005
NEW CUMBERLAND, PA
MYERS, JENNIFER | 1/19/2005
ATTICA, NY
NEUMANN, TINA | 1/19/2005
SPRINGHILL, FL
NEWCOMB, MARILYN | 1/19/2005
ROCHESTER, NY
NICHOLS, JAMES | 1/19/2005
CLEARLAKE, CA
NITTO, PATRICIA | 1/19/2005
LADY LAKE, FL
NOLEN, MATTHEW | 1/19/2005
CHANDLER, AZ
OLES, LAVON | 1/19/2005
BENSON, AZ
OMEA, GRETCHEN | 1/19/2005
WYLIE, TX
OTTEY, VIRGINIA | 1/19/2005
LAKELAND, FL
OWENS, NICKOLE | 1/19/2005
DENVER, CO
PARKER, MARIA | 1/19/2005
DENVER, CO
PARRISH, JACQUELIN | 1/19/2005
GALLUP, NM
PATINO, DAVID | 1/19/2005
PORTERVILLE, CA
PERSON, STEPHANIE | 1/19/2005
MEMPHIS, TN
PETERSON, TERESA | 1/19/2005
MOBILE, AL
PICKRELL, SUSAN | 1/19/2005
COSTA MESA, CA
PIMENTAL, PAMELA | 1/19/2005
PAWTUCKET, RI
PINKERTON, LINDA | 1/19/2005
ONEIDA, NY
RADOMSKI, JULIENNE | 1/19/2005
LEESBURG, VA
RAYMOND, JERRY | 1/19/2005
SPRINGFIELD, MO
RENICK, LISA | 1/19/2005
BOISE, ID
RENKEN, CAREY | 1/19/2005
DENVER, CO
RIVERA, ANGEL | 1/19/2005
HONDO, TX
ROBERTS, FAITH | 1/19/2005
MIAMI, FL
SACCONE, MARGUERITE | 1/19/2005
FT LAUDERDALE, FL
SALTER, DEBORAH | 1/19/2005
COLUMBIA, AL
SANFORD, CYNTHIA | 1/19/2005
ENGLEWOOD, CO
SANTIAGO, JAMIE | 1/19/2005
CLEVELAND, OH
SCOTT, CLINTON | 1/19/2005
LONG BEACH, CA
SHAH, KAMLESH | 1/19/2005
ONTARIO, CA
SIMMONS, CAROLYN | 1/19/2005
BRISTOL, VA
SMITH, KAREN | 1/19/2005
SALT LAKE CITY, UT
SMITH, RAMONA | 1/19/2005
CAROLINA BEACH, NC
SOARES, KIM | 1/19/2005
SWANSEA, RI
SOWLES, CHARLENE | 1/19/2005
PHOENIX, AZ
STROBLE, LAURA | 1/19/2005
WEST DOVER, VT
STUDLEY, KATHLEEN | 1/19/2005
RUMFORD, RI
SWAIN, JEREMY | 1/19/2005
COVENTRY, RI
TAYLOR, DONALD | 1/19/2005
HAVRE, MT
TAYLOR, MATTHEW | 1/19/2005
CLEARFIELD, UT
TAYLOR, MEL | 1/19/2005
SAN LEANDRO, CA
THAN-RIDDLE, KHIN | 1/19/2005
GAMBRILLS, MD
TILLEY-BISBEE, COURTNEY | 1/19/2005
SCOTTSDALE, AZ
TOPPING, GARY | 1/19/2005
DERBY, KS
VALDIVIA, CARLOS | 1/19/2005
OXNARD, CA
VARGOVICH, KAREN | 1/19/2005
OROFINO, ID
VARNUM, ROLAND | 1/19/2005
LAKE CHARLES, LA
VINLUAN, ELEANOR | 1/19/2005
CHEYENNE, WY
WALLACE, FREDRICK | 1/19/2005
BESSEMER, AL
WALLACE, SELENA | 1/19/2005
LAKE CITY, FL
WASHINGTON, CARNELLA | 1/19/2005
OAKLAND, CA
WEBER, SUSAN | 1/19/2005
COLORADO SPRINGS, CO
WILKERSON, NINA | 1/19/2005
PHOENIX, AZ
WILLIAMS, APRIL | 1/19/2005
PARACHUTE, CO
WILLIAMS, REBECCA | 1/19/2005
AURORA, CO
WOLAN, NANCY | 1/19/2005
TAMPA, FL
YOUNG, KISHA | 1/19/2005
LONGVIEW, WA
FEDERAL/STATE EXCLUSION/SUSPENSION
RYDER, JON | 1/19/2005
EUGENE, OR
FRAUD/KICKBACKS/PROHIBITED ACTS/SETTLEMENT AGREEMENTS
GARCIA, GULLERMO | 11/4/2004
MIAMI, FL
GONSALVES, WALLACE | 9/23/2004
MINERSVILLE, PA
PATE, JIVA | 11/1/2004
MYRTLE BEACH, SC
OWNED/CONTROLLED BY CONVICTED ENTITY
ALPHA HERBS & VITAMINS | 1/19/2005
HOUSTON, TX
ALPHA SENIOR HEALTH GROUP | 1/19/2005
HOUSTON, TX
AVIONIX MEDICAL DEVICES, INC | 1/19/2005
MIDLAND, TX
HEALTH RESOURCES & REHAB | 1/19/2005
HOUSTON, TX
HEALTH RESOURCES & REHAB CENTER | 1/19/2005
HOUSTON, TX
JORGENSON DRUG, INC | 1/19/2005
ROUNDUP, MT
MARITIME HEALTH SERVICES OF TAMPA, INC | 1/19/2005
TAMPA, FL
SEELIN MEDICAL, INC | 1/19/2005
MIDLAND, TX
DEFAULT ON HEAL LOAN
BEAMS, JEFFREY | 1/19/2005
TAMPA, FL
BULEN, JERRY | 1/19/2005
BRANDON, FL
EAGLE, DONALD | 1/19/2005
GRAND ISLAND, FL
GREEN, MICHAEL | 1/19/2005
MAITLAND, FL
HASLEY, STEVEN | 1/19/2005
MELBOURNE, FL
HEISLER, HOPE | 1/19/2005
PUNTA GORDA, FL
JOSEPH, BRAD | 1/19/2005
PITTSBURGH, PA
LIGHT, DAVID | 1/19/2005
WINTER GARDEN, FL
MARIN, MELODY | 1/19/2005
VAN NUYS, CA
MARQUEZ, EVELYN | 1/19/2005
LOS ANGELES, CA
NEALY, JOY | 1/19/2005
ATLANTA, GA
ROGEL-ELLIOTT, VALERIE | 1/19/2005
SEMINOLE, FL
SMITH, MICHAEL | 1/19/2005
TORRANCE, CA
STANBRIDGE, GARY | 1/19/2005
WHITTIER, CA
VAFAEE, MOHAMMAD | 1/19/2005
SANTA MONICA, CA
YANG, SHENG | 1/19/2005
FOUNTAIN VALLEY, CA
OWNERS OF EXCLUDED ENTITIES
RATHOD, BABUBHAI | 1/19/2005
MT PLEASANT, MI

Dated: January 24, 2005.
Katherine B. Petrowski,
Director, Exclusions Staff, Office of Inspector General.

[FR Doc. 05-1788 Filed 1-31-05; 8:45 am]

BILLING CODE 4150-04-P